DEPARTMENT OF THE INTERIOR

Fish and Wildlife Service

Notice of Extension of Comment Period for the Draft Comprehensive Conservation Plan and Environmental Assessment for Buenos Aires National Wildlife Refuge

AGENCY: Fish and Wildlife Service, Interior.

ACTION: Notice.

SUMMARY: This notice advises the public that the U.S. Fish and Wildlife Service (Service) is extending the comment period through close of business Thursday, April 19, 2001, for the Draft Comprehensive Conservation Plan (CCP) and Environmental Assessment for the Buenos Aires National Wildlife Refuge, Sasabe, Arizona. A notice was published in the Federal Register notifying release of the document on December 1, 2000. The Service is furnishing this notice to ensure that interested parties have every opportunity to offer input, comments, and suggestions with respect to the Service's proposed management objectives and strategies detailed in the draft CCP document and EA document.

DATES: The Service will be open to written advice and comment on the draft CCP Objectives and Strategies through April 19, 2001.

ADDRESSES: Comments may be sent to: Ms. Yvette Truitt, Biologist/Natural Resource Planner, U.S. Fish and Wildlife Service, Southwest Region, Division of Refuges and Wildlife, P.O. Box 1306, Albuquerque, NM 87103.

SUPPLEMENTARY INFORMATION: It is the U.S. Fish and Wildlife Service policy to have all lands within the National Wildlife Refuge System managed in accordance with an approved CCP. The CCP guides management decisions and identifies refuge goals, long-range objectives, and strategies for achieving refuge purposes. The planning process has considered and will continue to consider many elements, including habitat and wildlife management, habitat protection and acquisition, public and recreational uses, and cultural resources. Continued public input into this planning process is essential. The CCP document when finalized will provide other agencies and the public with a clear understanding of the desired conditions for the Refuges and how the Service will implement management strategies.

Review of these projects will be conducted in accordance with the requirements of the National Environmental Policy Act of 1969, as amended (42 U.S.C. 4321 et seq.), NEPA Regulations (40 CFR parts 1500-1508), other appropriate Federal laws and regulations, including the National Wildlife Refuge System Improvement Act of 1997, Executive Order 12996, and Service policies and procedures for compliance with those regulations.

The Service anticipates that a Final CCP will be available by September 30, 2001.

Dated: March 6, 2001.
Geoffrey Haskett,
Regional Director.

[FR Doc. 01-7754 Filed 3-28-01; 8:45 am]

BILLING CODE 4310-55-P